FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011488-004.

Title: CSAV/NYKCool Space Charter Agreement.

Parties: CSAV Sud Americana de Vapores S.A. and NYKCool AB.

Filing Party: Wayne R. Rohde, Esq.; Sher & Blackwell LLP; 1850 M Street NW.; Suite 900; Washington, DC 20036.

Synopsis: The amendment would revise and expand the space chartering authority under the agreement, expand the geographic scope of the agreement, and restate the agreement to reflect these changes throughout.

Agreement Nos.: 201122-002.

Title: Pacific Maritime Services Cooperative Working Agreement.

Parties: COSCO Terminals America, Inc.; SSA Containers, Inc., and SSA Ventures, Inc.

Filing Party: David F. Smith, Esq.; Cozen O'Connor; 1627 I Street NW., Suite 1100; Washington, DC 20006.

Synopsis: The amendment would add Terminal Link California and Pacific Maritime Services as parties to the agreement, and make some corresponding changes to the agreement.

Agreement No.: 201162-009.

Title: NYSA-ILA Assessment Agreement.

Parties: International Longshoremen's Association and New York Shipping Association.

Filing Parties: Donato Caruso, Esq.; The Lambos Firm; 303 South Broadway, Suite 410; Tarrytown, NY 10591 and Andre Mazzola, Esq.; Marrinan & Mazzola Mardon, P.C.; 26 Broadway, 17th Floor; New York, NY 10004.

Synopsis: The amendment revises the agreement to adopt a specific assessment for Mafis, which commenced on October 1, 2012.

By Order of the Federal Maritime Commission.
Dated: October 19, 2012.
Karen V. Gregory,
Secretary.

[FR Doc. 2012-26224 Filed 10-23-12; 8:45 am]

BILLING CODE 6730-01-P